U.S. DEPARTMENT OF COMMERCE

Foreign-Trade Zones Board

[Docket 29-2010]

Foreign-Trade Zone 125 - South Bend, Indiana

Application for Reorganization under Alternative Site Framework

An application has been submitted to the Foreign-Trade Zones (FTZ) Board (the Board) by the St. Joseph County Airport Authority, grantee of Foreign-Trade Zone 125, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u) and the regulations of the Board (15 CFR part 400). It was formally filed on April 29, 2010.

FTZ 125 was approved by the Board on March 11, 1986 (Board Order 326, 51 F.R. 10564; 3/27/86). After approval of a minor boundary modification (A(27f)-33-95), the general-purpose zone currently consists of the following two sites: Site 1: (7 acres) - located at 2809 North Foundation Drive within the Airport Industrial Park, South Bend (St. Joseph County); and Site 2: (21 acres) - located at 1507 South Olive Street, South Bend (St. Joseph County), Indiana.

The grantee's proposed service area under the ASF would be St. Joseph, Elkhart, Kosciusko, Marshall, LaPorte and Starke Counties, Indiana, as described in the application. If approved, the grantee would be able to serve sites throughout the service area based on companies' needs for FTZ designation. The proposed service area is within and adjacent to the Chicago Customs and Border Protection port of entry.

The applicant is requesting authority to reorganize its existing zone project to include both of the existing sites as “magnet” sites. The ASF allows for the possible exemption of one magnet site from the “sunset” time limits that generally apply to sites under the ASF, and the applicant proposes that Site 2 be so exempted. No usage-driven sites are being requested at this time. Because the ASF only pertains to establishing or reorganizing a general-purpose zone, the application would have no impact on FTZ 125's authorized subzones.

In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is July 6, 2010. Rebuttal comments in response to material submitted during the foregoing period may be submitted during the subsequent 15-day period to July 21, 2010.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz. For further information, contact Claudia Hausler at Claudia.Hausler@trade.gov or (202)482-1379.

Dated: April 29, 2010.
Andrew McGilvray,
Executive Secretary.

[FR Doc. 2010-10862 Filed 5-6-10; 8:45 am]

BILLING CODE 3510-DS-S